DEPARTMENT OF JUSTICE

Bureau of Alcohol, Tobacco, Firearms and Explosives

[OMB 1140-NEW]

Agency Information Collection Activities; Proposed eCollection of eComments Requested; New Collection; Acknowledgement of Deactivation Removal—ATF Form 3252.9

AGENCY: Bureau of Alcohol, Tobacco, Firearms and Explosives, Department of Justice.

ACTION: 30-Day notice.

SUMMARY: The Bureau of Alcohol, Tobacco, Firearms and Explosives (ATF), Department of Justice (DOJ) will submit the following information collection request to the Office of Management and Budget (OMB) for review and approval in accordance with the Paperwork Reduction Act of 1995.

DATES: Comments are encouraged and will be accepted for an additional 30 days until May 17, 2023.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: Acknowledgement of Deactivation Removal.

(3) The agency form number, if any, and the applicable component of the Department sponsoring the collection:

Form number: ATF 3252.9.

Component: Bureau of Alcohol, Tobacco, Firearms and Explosives, U.S. Department of Justice.

(4) Affected public who will be asked or required to respond, as well as a brief abstract:

Primary: Individuals or households.

Other: None.

Abstract: The purpose of the collection is to document the confidential informant's (CI) acknowledgment that he or she is no longer authorized to serve as an ATF CI. The CI will review the ATF F 3252.9 sign and date to acknowledge his or her understanding of the notification.

(5) An estimate of the total number of respondents and the amount of time estimated for an average respondent to respond: An estimated 300 respondents will provide information to complete this form once annually, and it will take approximately 15 minutes to complete the form.

(6) An estimate of the total public burden (in hours) associated with the collection: The estimated annual public burden associated with this collection is 75 hours, which is equal to 300 (total respondents) * 1 (# of response per respondent) * .25 (10 minutes or the time taken to prepare each response).

If additional information is required contact: John Carlson, Department Clearance Officer, Policy and Planning Staff, Office of the Chief Information Officer, United States Department of Justice, Justice Management Division, Two Constitution Square, 145 N Street NE, Mail Stop 3.E-206, Washington, DC 20530.

Dated: April 11, 2023.
John Carlson,
Department Clearance Officer, Policy and Planning Staff, U.S. Department of Justice.

[FR Doc. 2023-07985 Filed 4-14-23; 8:45 am]

BILLING CODE 4410-FY-P